DEPARTMENT OF STATE

[Delegation of Authority No. 475]

Delegation of Section 108A MECEA Approval Authority to the Assistant Secretary for Educational and Cultural Affairs

By virtue of the authority vested in the Under Secretary for Public Diplomacy and Public Affairs pursuant to Delegation of Authority No. 234 (October 1, 1999) and delegated to me pursuant to Delegation of Authority No. 461-1 (February 5, 2019), and to the extent permitted by law, I hereby delegate to the Assistant Secretary of State for Educational and Cultural Affairs the authority in Section 108A of the Mutual Educational and Cultural Exchange Act of 1961 (MECEA) (22 U.S.C. 2458a) relating to the approval of foreign government-funded cultural exchange programs.

The Secretary, the Deputy Secretary, or I (pursuant to Delegation of Authority 461-1) may at any time exercise the authority delegated herein.

This Delegation of Authority does not revoke or otherwise affect any other delegation of authority currently in effect.

Any reference in this Delegation of Authority to any statute or delegation of authority shall be deemed to be a reference to such statute or delegation of authority as amended from time to time.

This Delegation of Authority shall be published in the Federal Register.

Dated: August 1, 2019.
Michelle Giuda,
Assistant Secretary for Public Affairs, U.S. Department of State.

[FR Doc. 2019-17470 Filed 8-13-19; 8:45 am]

BILLING CODE 4710-05-P